NATIONAL FOUNDATION ON THE ARTS AND THE HUMANITIES

National Endowment for the Arts

30-Day Notice for the “ArtsHERE Grant Program Forms”; Proposed Collection; Comment Request

AGENCY: National Endowment for the Arts, National Foundation on the Arts and the Humanities.

ACTION: Notice, request for comments, collection of information.

SUMMARY: The National Endowment for the Arts (NEA), as part of its continuing effort to reduce paperwork and respondent burden, conducts a preclearance consultation program to provide the general public and Federal agencies with an opportunity to comment on proposed and/or continuing collections of information in accordance with the Paperwork Reduction Act of 1995. This program helps to ensure that requested data can be provided in the desired format, reporting burden (time and financial resources) is minimized, collection instruments are clearly understood, and the impact of collection requirements on respondents can be properly assessed. Currently, the NEA is soliciting comments concerning the proposed collection of information for the evaluation of the ArtsHERE grant program. Copies of this ICR, with applicable supporting documentation, may be obtained by visiting www.Reginfo.gov.

DATES: Written comments must be submitted to the office listed in the address section below within 30 days from the date of this publication in the Federal Register.

ADDRESSES: Written comments and recommendations for the proposed information collection should be sent within 30 days from the date of publication of this Notice to www.reginfo.gov/public/do/PRAMain. Find this particular information collection by selecting, “National Endowment for the Arts” under “Currently Under Review;” then check “Only Show ICR for Public Comment” checkbox. Once you have found this information collection request, select “Comment,” and enter or upload your comment and information. Alternatively, comments can be sent to the Office of Information and Regulatory Affairs, Attn: OMB Desk Officer for the National Endowment for the Arts, Office of Management and Budget, Room 10235, Washington, DC 20503, or call (202) 395-7316, within 30 days from the date of this publication in the Federal Register.

SUPPLEMENTARY INFORMATION: The Office of Management and Budget (OMB) is particularly interested in comments which:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated, electronic, mechanical, or other technological collection techniques or other forms of information technology, e.g., permitting the electronic submissions of responses.

Agency: National Endowment for the Arts.

Title: ArtsHERE Grant Program Forms.

OMB Control Number: New.

Type of Review: Regular.

Affected Public: Individuals and Households; Businesses and Organizations; State, Local or Tribal Government.

Estimated Number of Respondents: 225.

Estimated Annual Time per Respondent (Hours): 4.86.

Total Annual Burden Hours: 1,093.

Total Annualized Capital/Startup Costs: 0.

Total Annual Costs (operating/maintaining systems or purchasing services): The total annual cost to the Federal Government for all activities associated with this collection is $73,860.41.

Description: The National Endowment for the Arts (NEA), in partnership with South Arts and in collaboration with the five other U.S. Regional Arts Organizations (RAOs), has launched a new pilot subgrant program, ArtsHERE (https://usregionalarts.org/artshere/). ArtsHERE subgrants, which will be referred to as “grants”, are for specific projects that will strengthen the organization's capacity to sustain meaningful community engagement and increase arts participation for underserved groups/communities. For the purpose of the ArtsHERE funding guidelines, “underserved group/community” refers to those whose opportunities to experience the arts have been limited by factors such as geography, race/ethnicity, economics and/or disability.

The National Endowment for the Arts will conduct a program evaluation of the ArtsHERE initiative, which may inform the future of the ArtsHERE program as well as generate insights to strengthen the arts and culture sector and to inform future practice and national strategy for public funding for the arts. This OMB request is for approval of the program evaluation plan and the instruments used in the evaluation.

Dated: May 17, 2024.
RaShaunda Thomas,
Deputy Director, Office of Administrative Services & Contracts, National Endowment for the Arts.

[FR Doc. 2024-11241 Filed 5-21-24; 8:45 am]

BILLING CODE 7537-01-P